ENVIRONMENTAL PROTECTION AGENCY

[CERCLA-04-2023-2530(b) et al.; FRL-11526-01-R4]

Bennett Landfill Fire Superfund Site, Chester, South Carolina; Proposed Settlements

AGENCY: Environmental Protection Agency (EPA).

ACTION: Notice of proposed settlements.

SUMMARY: Under the Comprehensive Environmental Response, Compensation and Liability Act (CERCLA), the United States Environmental Protection Agency is proposing to enter into individual settlements with three parties concerning the Bennett Landfill Fire Site located in Chester, South Carolina. The proposed settlements address recovery of CERCLA costs for a cleanup that was performed at the Site and costs incurred by EPA. The individual proposed settlements are as follows: Perrigo Company, CERCLA-04-2023-2530(b); Brookland Lakeview Empowerment Center, CERCLA-04-2023-2531(b); and Spartanburg County School District 4, CERCLA-04-2023-2534(b).

DATES: The Agency will consider public comments on the proposed settlements until December 4, 2023. The Agency will consider all comments received and may modify or withdraw its consent to the proposed settlements if comments received disclose facts or considerations which indicate that the proposed settlement is inappropriate, improper, or inadequate.

ADDRESSES: Copies of the proposed settlements are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Maurice Horsey,
Branch Manager, Enforcement Branch, Superfund & Emergency Management Division.

[FR Doc. 2023-24208 Filed 11-1-23; 8:45 am]

BILLING CODE 6560-50-P